DEPARTMENT OF HEALTH AND HUMAN SERVICES

Administration for Community Living

Intent To Award a Single-Source Supplement for the Senior Medicare Patrol National Resource Center

ACTION: Notice.

The Administration for Community Living (ACL) announces the intent to award a single-source supplement to the current cooperative agreement held by the Northeast Iowa Area Agency on Aging, Inc. (NEI3A) for the Senior Medicare Patrol National Resource Center (SMPRC). The purpose of the SMPRC is to provide professional expertise, training, and technical support to maximize the effectiveness of the 54 Senior Medicare Patrol (SMP) projects in Medicare fraud prevention outreach and education. The administrative supplement for FY 2019 will be for $554,532, bringing the total award for FY 2019 to $1,194,532. With this supplemental funding, NEI3A will develop a targeted marketing and outreach campaign. This includes development of an SMP national video, which will seek to increase awareness of health care fraud and educate the public on when to contact their SMP to report health care fraud, errors, or abuse. An advertisement campaign will be developed to utilize on a national scale and reach Top 20 Markets including Good Morning America and early evening prime time news broadcasts. In addition, NEI3A will explore the possibility of updating one of their previously developed projects, the Personal Health Care Journal, including the possibility of providing a technologically up-to-date SMP application (app). This app would provide beneficiaries with helpful health care tips, important health care contact information, and a place to log their health care appointments for later comparison with Medicare Summary Notices (MSNs) and Explanations of Benefits (EOBs). This tool would be useful in preventing, detecting, and if needed, reporting any health care fraud, errors, or abuse. Lastly, NEI3A will utilize supplemental funding to expand existing contracts with SMP Subject Matter Experts.

Program Name: Senior Medicare Patrol National Resource Center (SMPRC).

Recipient: Northeast Iowa Area Agency on Aging, Inc. (NEI3A).

Period of Performance: The award will be issued for the current project period of September 1, 2019 through August 31, 2020.

Total Award Amount: $1,194,532 in FY 2019.

Award Type: Cooperative Agreement Supplement.

Statutory Authority: Health Insurance Portability and Accountability Act (HIPAA) of 1996, Public Law 104-191.

Basis for Award: NEI3A is currently funded to carry out the SMPRC Project for the period of September 1, 2017 through August 31, 2020. Much work has already been completed and further tasks are currently being accomplished. It would be unnecessarily time consuming and disruptive to the SMPRC project and the beneficiaries being served for ACL to establish a new grantee at this time when critical services are presently being provided in an efficient manner.

NEI3A is uniquely placed to complete work under the SMPRC grant. Since 2003, NEI3A has effectively operated the SMPRC. NEI3A has a proven track record for providing assistance through successful working relationships with SMP grantees, is centrally located in a geographic location that boasts low costs, and also houses the State Health Insurance Assistance Program National Technical Assistance Center (SHIP TA Center). By housing both Centers, NEI3A is able to successfully leverage existing activities to lower overall cost and therefore expand capability of serving their target audience.

NEI3A accomplishes its mission by developing and sharing tools, resources, best practices, and strategies for reducing health care fraud, waste, and abuse via its online library, electronic and print publications, webinars, and training and technical assistance.

NEI3A is successfully meeting all programmatic goals under the current SMPRC grant.

FOR FURTHER INFORMATION CONTACT: For further information or comments regarding this program supplement, contact Rebecca Kinney, U.S. Department of Health and Human Services, Administration for Community Living, Center for Integrated Programs, Office of Healthcare Information and Counseling; telephone (202) 795-7375; email Rebecca.Kinney@acl.hhs.gov.

Dated: July 18, 2019.
Mary Lazare,
Principal Deputy Administrator, Administration for Community Living.

[FR Doc. 2019-15694 Filed 7-23-19; 8:45 am]

BILLING CODE 4154-01-P